DEPARTMENT OF HEALTH AND HUMAN SERVICES

Health Resources and Services Administration

Health Center Controlled Networks

AGENCY: Health Resources and Services Administration, HHS.

ACTION: Notice of Class Deviation from Competition Requirements for Health Center Controlled Networks.

SUMMARY: In accordance with the Awarding Agency Grants Administration Manual (AAGAM) Chapter 2.04.103, the Bureau of Primary Health Care (BPHC) has been granted a class deviation from the exceptions to maximum competition requirements contained in the AAGAM Chapter 2.04.104A-5 to provide additional funding without competition to the 37 Health Center Controlled Networks (HCCNs) awarded under announcement HRSA-13-237, extending their December 1, 2014, to November 31, 2015, budget period through July 31, 2016. This action will align the project period end dates of all active HCCN grants and ensure maximum competition for a single HCCN funding opportunity in fiscal year (FY) 2016.

SUPPLEMENTARY INFORMATION: Intended Recipient of the Award: Health Center Controlled Networks awarded under funding opportunity announcement HRSA-13-237.

Amount of Non-Competitive Awards: $11,909,772.

Period of Supplemental Funding: December 1, 2015, to July 31, 2016.

CFDA Number: 93.527.

Authority: Section 330 of the Public Health Service Act, as amended (42 U.S.C. 254b, as amended).

Justification: Health Center Controlled Networks enhance the use of health information technology (HIT) to improve the quality of care provided by Health Center Program awardees and look-alikes, collectively referred to as health centers. HCCNs bring health centers together to jointly address operational and clinical challenges, particularly the acquisition and implementation of HIT in a cost-efficient manner. They help fulfill the Federal Health IT Strategic Plan and address HRSA's goal that all Health Center Program awardees will:

• Acquire and effectively implement certified Electronic Health Record (EHR) technology to enable all eligible providers to become meaningful users of EHRs as defined by the Centers for Medicare & Medicaid Services (CMS);

• access EHR incentive program payments; and

• enhance data reporting and technology-enabled quality improvement activities.

Two HCCN funding opportunities were competed in FY 2013, resulting in two grant cohorts with project period end dates that differ by 8 months: 37 grants funded under HRSA-13-237 ending November 30, 2015, and six grants funded under HRSA-13-267 ending July 31, 2016. BPHC requests to implement one project period end date for all active HCCNs, July 31, 2016, by providing an additional 8 months of support to grants funded under HRSA-13-237. Creating one funding cycle will prevent a lapse in funding that may jeopardize HIT implementation underway at the health centers receiving technical assistance from the HCCNs. By September 30, 2015, $11,909,772 will be awarded to continue the 37 grants' approved activities for 8 months (see Table 1). Awardees will report progress and financial obligations made during the 8-month budget period extension as instructed by the Notice of Award.

Table 1—Recipient Grants and Award Amounts
Grant No. | Organization name | Award amount
H2QCS25654 | ALABAMA PRIMARY HEALTH CARE ASSOCIATION, INC | $316,667
H2QCS25636 | COLORADO COMMUNITY MANAGED CARE NETWORK | 316,667
H2QCS25650 | COMMUNITY CLINIC ASSOCIATION OF LOS ANGELES COUNTY | 416,667
H2QCS25663 | COMMUNITY HEALTH ACCESS NETWORK, INC | 416,667
H2QCS25644 | COMMUNITY HEALTH BEST PRACTICES, LLC. | 262,893
H2QCS25665 | COMMUNITY HEALTH CARE ASSOCIATION OF NEW YORK STATE, INC | 466,654
H2QCS25655 | COMMUNITY HEALTH CENTER ASSOCIATION OF CONNECTICUT | 266,667
H2QCS25635 | COMMUNITY HEALTH CENTERS OF ARKANSAS, INC | 144,096
H2QCS25651 | COUNCIL OF COMMUNITY CLINICS | 266,667
H2QCS25652 | GOLDEN VALLEY HEALTH CENTERS | 316,667
H2QCS25659 | GRACE COMMUNITY HEALTH CENTER, INC | 316,667
H2QCS25637 | HAWAII PRIMARY CARE ASSOCIATION | 266,667
H2QCS25657 | HEALTH CHOICE NETWORK, INC | 466,667
H2QCS25671 | HEALTH FEDERATION OF PHILADELPHIA, THE | 266,667
H2QCS25638 | IDAHO PRIMARY CARE ASSOCIATION | 266,667
H2QCS25639 | IN CONCERTCARE, INC | 266,667
H2QCS25640 | KANSAS ASSOCIATION FOR MEDICALLY UNDERSERVED | 266,667
H2QCS25641 | LOUISIANA PRIMARY CARE ASSOCIATION, INC | 316,667
H2QCS25660 | MAINE PRIMARY CARE ASSOCIATION | 266,667
H2QCS25661 | MICHIGAN PRIMARY CARE ASSOCIATION | 366,352
H2QCS25642 | MISSOURI COALITION FOR PRIMARY HEALTH CARE | 366,667
H2QCS25643 | MONTANA PRIMARY CARE ASSOCIATION, INC | 316,667
H2QCS25658 | NEAR NORTH HEALTH SERVICE CORPORATION, THE | 416,667
H2QCS25645 | NEW MEXICO PRIMARY CARE ASSOCIATION | 266,667
H2QCS25647 | OCHIN, INC | 516,667
H2QCS25666 | OHIO SHARED INFORMATION SERVICES, INC | 266,667
H2QCS25649 | PTSO OF WASHINGTON | 416,667
H2QCS25653 | REDWOOD COMMUNITY HEALTH NETWORK | 266,667
H2QCS25646 | SOONERVERSE, INC | 266,667
H2QCS25656 | SOUTHBRIDGE MEDICAL ADVISORY COUNCIL, INC | 266,667
H2QCS25664 | SOUTHERN JERSEY FAMILY MEDICAL CENTERS, INC | 266,667
H2QCS25667 | TENNESSEE PRIMARY CARE ASSOCIATION | 286,443
H2QCS25648 | TEXAS ASSOCIATION OF COMMUNITY HEALTH CENTERS, INC | 516,667
H2QCS25662 | THE COASTAL FAMILY HEALTH CENTER, INC | 266,667
H2QCS25668 | VIRGINIA PRIMARY CARE ASSOCIATION, INC | 366,667
H2QCS25669 | WEST VIRGINIA PRIMARY CARE ASSOCIATION INC | 316,667
H2QCS25670 | WISCONSIN PRIMARY HEALTH CARE ASSOCIATION, INC | 266,667

FOR FURTHER INFORMATION CONTACT: Olivia Shockey, Expansion Division Director, Office of Policy and Program Development, Bureau of Primary Health Care, Health Resources and Services Administration at 301-443-9282 or at oshockey@hrsa.gov.

Dated: June 4, 2015.
James Macrae,
Acting Administrator.

[FR Doc. 2015-14235 Filed 6-10-15; 8:45 am]

BILLING CODE 4165-15-P